DEPARTMENT OF TRANSPORTATION

Maritime Administration

Marine Transportation System National Advisory Council

AGENCY: Maritime Administration, DOT.

ACTION: National Advisory Council public meeting.

SUMMARY: The Maritime Administration announces that the Marine Transportation System National Advisory Council (MTSNAC) will hold a meeting to discuss the Council's Team Reports, its SEA-21 proposal, and other issues. A public comment period is scheduled for 9 to 9:30 a.m. on Friday, November 15, 2002. To provide time for as many people to speak as possible, speaking time for each individual will be limited to three minutes. Members of the public who would like to speak are asked to contact Raymond Barberesi by November 7, 2002. Commenters will be placed on the agenda in the order in which notifications are received. If time allows, additional comments will be permitted. Copies of oral comments must be submitted in writing at the meeting. Additional written comments are welcome and must be filed by November 22, 2002.

DATES: The meeting will be held on Thursday, November 14, 2002, from 1 p.m. to 5 p.m. and Friday, November 15, 2002, from 8:30 a.m. to 3 p.m.

ADDRESSES: The meeting will be held in the Millennium Broadway Hotel, 145 West 44th Street, New York, NY 10036. The hotel's phone number is (212) 768-4400.

FOR FURTHER INFORMATION CONTACT: Raymond Barberesi, (202) 366-4357; Maritime Administration, MAR 830, Room 7201, 400 Seventh St., SW, Washington, DC 20590; Raymond.Barberesi@marad.dot.gov.

(Authority: 5 U.S.C. App 2, Sec. 9(a)(2); 41 CFR 101-6. 1005; DOT Order 1120.3B)

Dated: October 24, 2002.
Joel C. Richard,
Secretary, Maritime Administration.

[FR Doc. 02-27545 Filed 10-29-02; 8:45 am]

BILLING CODE 4910-81-P